DEPARTMENT OF DEFENSE

Department of the Navy

Notice of Public Hearings for the Draft Environmental Impact Statement for the Silver Strand Training Complex, San Diego, CA

AGENCY: Department of the Navy, DoD.

ACTION: Notice.

SUMMARY: Pursuant to section 102(2)(c) of the National Environmental Policy Act (NEPA) and the Council on Environmental Quality Regulations for implementing the procedural provisions of NEPA (Title 40 Code of Federal Regulations Parts 1500-1508), the Department of the Navy (Navy) has prepared and filed with the U.S. Environmental Protection Agency a Draft Environmental Impact Statement (DEIS) for public release on January 22, 2010. The National Marine Fisheries Service (NMFS) is a cooperating agency for the EIS.

The DEIS evaluates the potential environmental impacts associated with training activities within the Navy's Silver Strand Training Complex (SSTC) and southern nearshore areas of the Naval Air Station North Island (NASNI). The DEIS addresses ongoing and proposed military training activities, introduction of new platforms and equipment for training, and increased access and availability to existing beach and inland training areas. The proposed action serves to achieve and maintain Fleet readiness using the SSTC to support and conduct current, emerging, and future training activities. A Notice of Intent for this EIS was published in the Federal Register on August 6, 2001 (66 FR 41009).

The Navy will conduct two public hearings to receive oral and written comments on the DEIS. An open house session will precede the scheduled public hearing where Navy representatives will be available to clarify information related to the DEIS. Federal, State, and local agencies, elected officials, and other interested individuals and organizations are invited to be present or represented at the public hearings. This notice announces the dates and locations of the public hearings.

Dates and Addresses: Two public hearings will be held in San Diego County, CA to receive oral and written comments on the DEIS. All meetings will start with an open house session from 4 p.m. to 6 p.m., followed by a presentation and formal public comment period from 6 p.m. to 7:30 p.m. Public hearings will be held on the following dates and at the following locations:

1. Tuesday, February 22, 2010, at the Imperial Beach City Hall Community Room, 825 Imperial Beach Boulevard, Imperial Beach, CA; and

2. Wednesday, February 23, 2010, at the Coronado Community Center, 1845 Strand Way, Coronado, CA.

FOR FURTHER INFORMATION CONTACT: Naval Facilities Engineering Command Southwest, Attention: Mr. Kent Randall, SSTC EIS Project Manager, 1220 Pacific Highway, Building 1, 5th Floor, San Diego, CA 92132; or http://www.silverstrandtrainingcomplexeis.com.

SUPPLEMENTARY INFORMATION: The SSTC has been used by the Navy for training over 60 years. It is located on, and adjacent to, the Silver Strand, a narrow, sandy isthmus separating the San Diego Bay from the Pacific Ocean. SSTC is divided into two non-contiguous areas: SSTC-North (SSTC-N) and SSTC-South (SSTC-S). SSTC-N includes land areas on the northern-half of the Silver Strand peninsula, as well as adjacent nearshore waters of the Pacific Ocean and the San Diego Bay. SSTC-N is composed of 10 oceanside beach and boat training lanes, ocean anchorage areas, bayside water training areas, and bayside beaches. SSTC-S includes land on the southern-end of the Silver Strand peninsula, as well as adjacent nearshore waters of the Pacific Ocean. SSTC-S consists of four oceanside beach lanes, four boat training lanes, and inland training areas and facilities inside a fenced area. SSTC-N and SSTC-S are separated by the Silver Strand State Beach. A training area located in the southern near shore area of NASNI, separate from SSTC, is used for similar types of training, and is also part of the DEIS. This NASNI training area is composed of the beaches and near shore waters from Breakers Beach to Zuniga Jetty, west of the city of Coronado. The Navy is not proposing to expand the geographic area of SSTC or the NASNI training area.

The purpose of the proposed action is to improve the availability and quality of training opportunities at SSTC to achieve required levels of operational readiness. The proposed action is needed to provide a training environment consisting of training areas and range facilities with the capacity and capabilities to fully support required training tasks for operational units and military schools and meet the operational readiness requirements of Title 10, Section 5062 of the United States Code (10 U.S.C. 5062). Accordingly, the proposed action will meet training requirements by: (1) Continuing current training and increasing the number of existing training activities and introduce new training activities and platforms in support of Fleet Response Training Plan (FRTP) and surge requirements; (2) providing assured year-round access and unencumbered use of training areas to meet current and future training needs per the Navy Tactical Task List; and (3) providing a training range and training facilities that afford operational commands the flexibility to achieve diverse and realistic training at SSTC.

Under the No Action Alternative, training activities would continue at baseline levels. SSTC would not accommodate an increase in training tempo or type required to execute the FRTP or introduce new platforms or equipment into training on SSTC. Under the No Action Alternative, the Navy would not accommodate training requirements for repositioned forces in the Southern California area. In addition, under the No Action Alternative, training access restrictions, including seasonal restrictions on SSTC beach lanes and in inland areas of SSTC-S would remain unchanged.

Alternative 1, the Navy's preferred alternative, is designed to meet Navy and DoD current and near-term operational training requirements. Under Alternative 1, the Navy would increase the tempo and types of training, conduct existing routine training at additional locations within established SSTC training areas, introduce new platforms and equipment into training, and increase access and availability to SSTC training areas. New platforms and equipment would include replacement of Amphibious Assault Vehicles with Expeditionary Fighting Vehicles, an updated Offshore Petroleum Discharge System, and the MH-60R/S Seahawk Multi-Mission helicopter. Access and availability to SSTC training areas would be increased in three ways: (1) SSTC-N oceanside beach training lanes Blue 2, Orange 1 and Orange 2 (that are currently restricted during the nesting season) would be opened for training during the nesting season if other lanes are not available or if the lanes provide attributes more appropriate for training than other available lanes; (2) a maximum of 22 concurrent western snowy plover nests would be buffered for avoidance on SSTC oceanside beaches; and (3) training involving foot traffic, but not vehicle traffic, would be allowed in the vernal pools when vernal pool conditions are determined to be dry.

Alternative 2 consists of all elements of Alternative 1. Alternative 2 includes the same increase in the number and types of training activities over No Action Alternative levels, training in additional locations within established SSTC training areas, and introduction of new platforms and equipment into training. In addition, under Alternative 2, the Navy would fully utilize all oceanside beach lanes along SSTC-N and SSTC-S for continuous, year-round training. The Navy would continue to conduct existing management practice on the SSTC training beaches including nest relocation, predator management and control, habitat modification, site preparation for maintenance, nest substrate enhancement, signage and education, recreational use restrictions, and rearing of collected eggs, injured and sick individuals.

The SSTC DEIS is posted online at http://www.silverstrandtrainingcomplexeis.com and available to Federal, State, and local agencies, elected officials, and other interested individuals and organizations. The public comment period will end on March 9, 2010. Copies of the DEIS are available for public review at the following libraries:

1. Coronado Public Library, 640 Orange Avenue, Coronado, CA; and

2. Imperial Beach Branch Library, 810 Imperial Beach Boulevard, Imperial Beach, CA.

Federal, State, and local agencies, elected officials, and interested individuals and organizations are invited to be present or represented at the public hearing. Written comments can also be submitted during the open house sessions preceding the public hearings.

Oral statements will be heard and transcribed by a court reporter. All statements, both oral and written, will become part of the public record on the DEIS and will be responded to in the Final EIS (FEIS). Equal weight will be given to both oral and written statements; however, to ensure the accuracy of the record, it is recommended that statements be submitted in writing. In the interest of available time, and to ensure all who wish to give an oral statement have the opportunity to do so, each speaker's comments will be limited to three (3) minutes. If you have prepared a written statement, you may read it out loud if you can do so within the three minute time limit, or you may turn it in at the public hearing or mail the statement to Naval Facilities Engineering Command Southwest, Attention: Mr. Kent Randall, Silver Strand Training Complex EIS Project Manager, 1220 Pacific Highway, Building 1, 5th Floor, San Diego, CA 92132. In addition, comments may be submitted online at http://www.silverstrandtrainingcomplexeis.com during the comment period. All written comments must be postmarked by March 9, 2010, to ensure they become part of the official record. All comments will be addressed in the FEIS.

Dated: January 22, 2010.
A.M. Vallandingham,
Lieutenant Commander, Judge Advocate General's Corps, U.S. Navy, Federal Register Liaison Officer.

[FR Doc. 2010-1768 Filed 1-27-10; 8:45 am]

BILLING CODE 3810-FF-P